DEPARTMENT OF JUSTICE

Drug Enforcement Administration

[Docket No. 16-6]

Patricia A. Newton, M.D.; Order

On review of the record, I noted that the expiration date of Respondent's Certificate of Registration was October 31, 2016. GX 1. I therefore took official notice of the Agency's registration records for Respondent to determine if she has filed a renewal application. According to the Agency's records, Respondent had not filed a renewal application whether timely or not.

Accordingly, on May 7, 2017, I issued an order directing the parties to address whether this case is now moot and provided the parties with seven calendar days to file their submissions. Order, at 1 (May 7, 2017). While the Government filed a response to my order, Respondent has not.

In its Response, the Government acknowledges that Respondent's registration has expired and states that “there is no record of any subsequent renewal application being filed for this registration.” Certification of Registration History (May 15, 2017). Noting that there is neither a registration nor an application (whether timely or not) to act upon, the Government moves that this case be declared moot and that the Order to Show Cause be dismissed. Gov. Resp. to Order, at 1 (citing, inter alia, Amy S. Benjamin, 77 FR 72408 (2012); Ronald J. Riegel, 63 FR 67132, 67133 (1998)).

There being no showing of any collateral consequence which precludes a finding of mootness, I grant the Government's motion and dismiss the Order to Show Cause.

Dated: May 30, 2017.
Chuck Rosenberg,
Acting Administrator.

[FR Doc. 2017-11798 Filed 6-6-17; 8:45 am]

BILLING CODE 4410-09-P